DEPARTMENT OF ENERGY

[OE Docket No. EA-321-A, EA-322-A, EA-323-A, EA-324-A and EA-325-A]

Application To Export Electric Energy; Emera Energy Services Subsidiaries

AGENCY: Office of Electricity Delivery and Energy Reliability, DOE.

ACTION: Notice of application.

SUMMARY: Five power marketing subsidiaries of Emera Incorporated (Emera) have applied separately to renew its authority to transmit electric energy from the United States to Canada pursuant to section 202(e) of the Federal Power Act (FPA).

DATES: Comments, protests, or motions to intervene must be submitted on or before June 25, 2012.

ADDRESSES: Comments, protests, or motions to intervene should be addressed to: Christopher Lawrence, Office of Electricity Delivery and Energy Reliability, Mail Code: OE-20, U.S. Department of Energy, 1000 Independence Avenue SW, Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On April 19, 2007, the Department of Energy (DOE) issued Order No. EA-321, EA-322, EA-323, EA-324 and EA-325, authorizing the Emera Subsidiaries to transmit electric energy from the United States to Canada as power marketers for a five-year term. The current export authorities in Order No EA-321, EA-322, EA-323, EA-324 and EA-325 expired on April 19, 2012. On April 19, 2012, Emera filed five separate applications with DOE for renewal of those authorities for an additional five-year term.

In its application, Emera states that the subsidiaries do “not own or control any electric power generation or transmission facilities and does not have a franchised electric power service area.” Emera states that the electric power proposed to be exported to Canada will be purchased from electric utilities and federal power marketing agencies pursuant to voluntary agreements and will be surplus to the system needs of the entities selling the power to Emera.

The existing international transmission facilities to be utilized by Emera have previously been authorized by Presidential permits issued pursuant to Executive Order 10485, as amended, and are appropriate for open access transmission by third parties.

Procedural Matters: Any person desiring to be heard in this proceeding should file a comment or protest to the application at the address provided above. Protests should be filed in accordance with Rule 211 of the FERC Rules of Practice and Procedures (18 CFR 385.211). Any person desiring to become a party to these proceedings should file a motion to intervene at the above address in accordance with FERC Rule 214 (385.214). Five copies of such comments, protests, or motions to intervene should be sent to the address provided above on or before the date listed above.

Comments on the Emera applications to export electric energy to Canada should be clearly marked with OE Docket No. 321-A, EA-322-A, EA-323-A, EA-324-A or EA-325-A. An additional copy is to be sent to Will Szubielski, Emera Energy Inc., 1223 Lower Water Street, Halifax, Nova Scotia B3J 3S8 and with Bonnie A. Suchman, Esq., Troutman Sanders LLP, 401 9th St. NW., Suite 1000, Washington, DC 20004. A final decision will be made on this application after the environmental impacts have been evaluated pursuant to DOE's National Environmental Policy Act Implementing Procedures (10 CFR part 1021) and if a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Issued in Washington, DC, on May 18, 2012.
Brian Mills,
Director, Permitting and Siting, Office of Electricity Delivery and Energy Reliability.

[FR Doc. 2012-12762 Filed 5-24-12; 8:45 am]

BILLING CODE 6450-01-P